DEPARTMENT OF THE INTERIOR

Fish and Wildlife Service

[FWS-R3-ES-2008-N0078; 30120-1113-0000-F6]

Endangered and Threatened Species Permit Applications

AGENCY: Fish and Wildlife Service, Interior.

ACTION: Notice of availability of permit applications; request for comments.

SUMMARY: The following applicants have applied for permits to conduct certain activities with endangered species.

DATES: We must receive written comments on or before June 27, 2008.

ADDRESSES: Regional Director, Attn: Peter Fasbender, U.S. Fish and Wildlife Service, Ecological Services, 1 Federal Drive, Fort Snelling, MN 55111-4056; electronic mail, permitsR3ES@fws.gov.

FOR FURTHER INFORMATION CONTACT: Peter Fasbender (612) 713-5343.

SUPPLEMENTARY INFORMATION:

Endangered Species

The Endangered Species Act of 1973, as amended (16 U.S.C. 1531 et seq.) (Act), with some exceptions, prohibits activities affecting endangered species unless authorized by a permit from the Service. Before issuing a permit, we invite public comment on it. Accordingly, we invite public comment on the following applicants' permit applications for certain activities with endangered species authorized by section 10(a)(1)(A) of the Act and the regulations governing the taking of endangered species (50 CFR part17). Submit your written data, comments, or requests for copies of the complete applications to the address shown in ADDRESSES.

Permit Number TE089872

Applicant: Macalester College, St. Paul, Minnesota.

The applicant requests a permit renewal to take Higgins' eye pearlymussel (Lampsilis higginsi) and winged mapleleaf (Quadrula fragosa) in Minnesota and Wisconsin. This permit renewal is requested to continue long-term mussel and habitat monitoring in the St. Croix River aimed at enhancement of survival of the species in the wild.

Permit Number TE125333-1

Applicant: Francesca Cuthbert, University of Minnesota, St. Paul, Minnesota.

The applicant requests a permit renewal to take piping plover (Charadrius melodus) in Michigan and Wisconsin. The research entails capture and marking of piping plovers, erecting nesting enclosures to improve nesting success, and salvaging eggs and nestlings to enhance the survival of the species in the wild.

Permit Number TE130900

Applicant: EnviroScience, Incorporated, Stow, Ohio.

The applicant requests a permit renewal to take (collect) listed fish and mussel species throughout Florida, Georgia, Illinois, Indiana, Iowa, Kentucky, Michigan, Minnesota, Missouri, Ohio, and Wisconsin. The following species may be collected and temporarily held in the course of surveys and habitat studies to determine presence or absence of the species: Clubshell (Pleurobema clava), Northern riffleshell (Epioblasma torulosa rangiana), Orange-footed pimpleback pearlymussel (Plethobasus cooperianus), Pink mucket pearlymussel (Lampsilis orbiculata), Rough pigtoe (Pleurobema plenum), Purple cat's paw pearlymussel (Epioblasma obliquata obliquata), White cat's paw pearlymussel (Epioblasma obliquata perobliqua), Fanshell (Cyprogenia stegaria), Fat pocketbook (Potamilus capax), Higgins' eye pearlymussel (Lampsilis higginsi), Winged mapleleaf (Quadrula fragosa), White wartyback (Plethobathus cicatricosus), Fat three-ridge (Amblema neislerii), Chipola slabshell (Elliptio chipolaensis), Purple bankclimber (Elliptoideus sloatianus), Upland combshell (Epioblasma metrastriata), Southern acornshell (Epioblasma othcaloogeniss), Fine-lined pocketbook (Lampsilis altilis), Shiny-rayed pocketbook (Lampsilis subangulata), Alabama moccasinshell (Medionidus acutissimus), Coosa moccasinshell (Medionidus parvulus), Gulf moccasinshell (Medionidus penicillatus), Ochlockonee moccasinshell (Medionidus simpsonianus), Southern clubshell (Pleurobema decisum), Southern pigtoe (Pleurobema georgianum), Ovate clubshell (Pleurobema perovatum), Triangular kidneyshell (Ptychobrachus greeni), Oval pigtoe (Pleurobema pyriforme), Shortnose sturgeon (Acipenser brevirostrum), Blue shiner (Cyprinella caerulea), Cherokee darter (Etheostoma scotti), Etowah darter (Etheostoma etowahae), Amber darter (Percina antesella), Goldline darter (Percina aurolineata), Conasauga logperch (Percina jenkinsi), and Snail darter (Percina tanasi). Activities are proposed to identify listed species within proposed project areas and to assist in the development of methods and alternatives to minimize or avoid impacts to those listed species. Surveys are used to enhance survival of the species in the wild.

Permit Number: TE135267

Applicant: Robert Vande Kopple, Pellston, Michigan.

The applicant requests a permit renewal to take Hungerford's crawling water beetle (Brachius hungerfordi). The scientific research involves surveying potential habitat to document the species range and to determine dietary habits of the species. The work is aimed at enhancement of survival of the species in the wild.

Permit Number TE144832

Applicant: Detroit Zoological Society, Royal Oak, MI.

The applicant requests a permit amendment to take piping plover (Charadrius melodus) in Michigan. The Detroit Zoological Society currently holds a permit to take Karner blue butterfly (Lycaeides melissa samuelis) in Michigan for a captive rearing study and are requesting the same authority for piping plover eggs salvaged from abandoned nests in the wild. The work is a collaborative effort between the applicant and the University of Minnesota, who will salvage the eggs from abandoned nests. The applicant will incubate the eggs, hand raise the chicks, and release fledglings to the wild. The scientific research is aimed at enhancement of survival of the species in the wild.

Permit Number TE179707

Applicant: Sanders Environmental Inc., Bellefonte, Pennsylvania.

The applicant requests a permit to take the Indiana bat (Myotis sodalis) throughout Illinois, Indiana, Iowa, Michigan, Missouri, Ohio, and Wisconsin. The activities proposed involve capture and marking individual bats to identify populations of this listed species and to develop methods to minimize or avoid project related impacts. The surveys are used to formulate project features aimed at enhancement of survival of the species in the wild.

Permit Number TE179708

Applicant: Western EcoSystems Technology, Inc., Cheyenne, Wyoming.

The applicant requests a permit to take the Indiana bat (Myotis sodalis) throughout its range. The activities proposed involve capture and marking individual bats to identify populations of this listed species and to develop methods to minimize or avoid project-related impacts. The surveys are used to formulate project features aimed at enhancement of survival of the species in the wild.

Permit Number TE179711

Applicant: Bernardin-Lochmueller & Associates, Evansville, Indiana.

The applicant requests a permit to take the Indiana bat (Myotis sodalis) throughout the range of the species. The activities proposed involve capture and marking individual bats to identify populations of this listed species and to develop methods to minimize or avoid project-related impacts. The surveys are used to formulate project features aimed at enhancement of survival of the species in the wild.

Permit Number TE182430

Applicant: Nicholas Owens, Oak Brook, IL.

The applicant requests a permit to take Fanshell (Cyprogenia stegaria), Pink Mucket pearlymussel (Lampsilis abrupta), Higgins' eye pearlymussel (Lampsilis higginsi), Orangefoot Pimpleback pearlymussel (Plethobasus cooperianus), Clubshell (Pleurobema clava), and Fat Pocketbook (Potamilus capax) throughout the States of Illinois and Indiana. This permit is requested to determine presence or absence of species in conjunction with other projects, and is aimed at enhancement of survival of the species in the wild.

Permit Number TE182436

Applicant: Illinois Natural History Survey, Champaign, IL.

The applicant requests a permit to take the Indiana bat (Myotis sodalis) throughout the State of Illinois. This permit is requested to determine presence or absence of the species and to determine distribution of the species. Activities are aimed at enhancement of survival of the species in the wild.

Public Comments

We solicit public review and comments on these permit applications. Please refer to the respective permit number when you submit comments. Comments and materials we receive are available for public inspection, by appointment, during normal business hours at the address shown in the ADDRESSES section. Before including your address, phone number, e-mail address, or other personal identifying information in your comment, you should be aware that your entire comment-including your personal identifying information-may be made publicly available at any time. While you can ask us in your comment to withhold your personal identifying information from public review, we cannot guarantee that we will be able to do so.

National Environmental Policy Act (NEPA)

In compliance with NEPA (42 U.S.C. 4321 et seq.), we have made an initial determination that the activities proposed in these permits are categorically excluded from the requirement to prepare an environmental assessment or environmental impact statement.

Dated: May 13, 2008.
Kyla Hastie,
Acting Assistant Regional Director, Ecological Services, Region 3, Fort Snelling, Minnesota.

[FR Doc. E8-11835 Filed 5-27-08; 8:45 am]

BILLING CODE 4310-55-P